FEDERAL COMMUNICATIONS COMMISSION

47 CFR Part 25

[IB Docket No. 02-10; FCC 04-286]

Procedures To Govern the Use of Satellite Earth Stations on Board Vessels in the 5925-6425 MHz/3700-4200 MHz Bands and 14.0-14.5 GHz/11.7-12.2 GHz Bands

AGENCY: Federal Communications Commission.

ACTION: Final rule, announcement of effective date.

SUMMARY: This document announces the effective date of the rule published on January 31, 2005. The rules adopted licensing and service rules for satellite earth stations on vessels (ESVs) in the C- and Ku-bands that will provide regulatory certainty to ESV licensees, while protecting existing users in the bands.

DATES: 47 CFR 25.221(c), 25.221(e), and 25.222(c) are effective June 15, 2005.

FOR FURTHER INFORMATION CONTACT: Jennifer Gorny or Howard Griboff, Policy Division, International Bureau, (202) 418-1460.

SUPPLEMENTARY INFORMATION: On January 6, 2005, the Commission released a Report and Order, a summary of which was published in the Federal Register. See 70 FR 4775, January 31, 2005. Although the rule changes in the Report and Order became effective on March 2, 2005, §§ 25.221(c), 25.221(e), and 25.222(c) contained modified information collection requirements, which required approval by the Office of Management and Budget (OMB). The information collection requirements were approved by OMB on May 25, 2005. See OMB No. 3060-1061.

Federal Communications Commission.
Marlene H. Dortch,
Secretary.

[FR Doc. 05-11541 Filed 6-14-05; 8:45 am]

BILLING CODE 6712-01-P